DEPARTMENT OF ENERGY

Federal Energy Regulatory Commission

[Docket No. RP97-13-004]

East Tennessee Natural Gas Company; Notice of Negotiated Rate Filing

March 12, 2001.

Take notice that on March 6, 2001, East Tennessee Natural Gas Company (East Tennessee), tendered for filing a Negotiated Rate Letter Agreement under Rate Schedule FT-A and attached as Appendix A to the filing. East Tennessee requests that the Commission grant all necessary waivers and approve the Negotiated Rate Letter Agreement to be effective November 1, 2000.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-6525 Filed 3-15-01; 8:45 am]

BILLING CODE 6717-01-M